COMMISSION ON CIVIL RIGHTS

Agenda and Notice of Public Meeting of the Ohio Advisory Committee

Notice is hereby given, pursuant to the provisions of the rules and regulations of the U.S. Commission on Civil Rights (Commission) and the Federal Advisory Committee Act that the Ohio Advisory Committee (Committee) will hold a fact finding meeting on Wednesday, June 5, 2013, and Thursday, June 6, 2013, for the purpose to acquire information and hear recommendations regarding human trafficking in Ohio from advocates, federal and state officials, law enforcement officials, business leaders, professors, and community leaders. The June 5 session will convene at 1:00 p.m. for a business meeting with panels beginning at 2:00 p.m. and adjourn at approximately 5:30 p.m. The June 6 session will convene at 9:00 a.m. and adjourn at approximately 1:00 p.m. The meeting will be held at the THE Hotel @ UTMC, 3100 Glendale Ave., Toledo, OH 43614.

Members of the public are entitled to submit written comments; the comments must be received in the regional office by June 25, 2013. Written comments may be mailed to the Midwestern Regional Office, U.S. Commission on Civil Rights, 55 W. Monroe St., Suite 410, Chicago, IL 60615. They may also be faxed to the Commission at (312) 353-8311, or emailed to the Commission at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Persons interested in the work of this Committee are directed to the Commission's Web site, http://www.usccr.gov, or may contact the Midwestern Regional Office at the above email or street address.

The meeting will be conducted pursuant to the rules and regulations of the Commission and FACA.

Dated in Chicago, IL, May 8, 2013.
David Mussatt,
Acting Chief, Regional Programs Coordination Unit.

[FR Doc. 2013-11334 Filed 5-13-13; 8:45 am]

BILLING CODE 6335-01-P